DEPARTMENT OF DEFENSE

Department of the Army

Availability of Non-Exclusive, Exclusive License or Partially Exclusive Licensing of U.S. Patent Concerning Polymerization of Aromatic Monomers Using Derivatives of Hematin

AGENCY: Department of the Army, DoD.

ACTION: Notice.

SUMMARY: In accordance with 37 CFR Part 404.6, announcement is made of the availability for licensing of U.S. Patent No. U.S. 7,479,329 entitled “Polymerization of Aromatic Monomers Using Derivatives of Hematin” issued January 20, 2009. This patent has been assigned to the United States Government as represented by the Secretary of the Army.

FOR FURTHER INFORMATION CONTACT: Mr. Jeffrey DiTullio at U.S. Army Soldier Systems Center, Kansas Street, Natick, MA 01760, Phone; (508) 233-4184 or E-mail: Jeffrey.Ditullio@natick.army.mil.

SUPPLEMENTARY INFORMATION: Any licenses granted shall comply with 35 U.S.C. 209 and 37 CFR Part 404.

Brenda S. Bowen,
Army Federal Register Liaison Officer.

[FR Doc. E9-5461 Filed 3-12-09; 8:45 am]

BILLING CODE 3710-08-P